DEPARTMENT OF TRANSPORTATION

Research and Special Programs Administration

Office of Hazardous Materials Safety; Notice of Applications for Exemptions

AGENCY: Research and Special Programs Administration, DOT.

ACTION: List of applicants for exemptions.

SUMMARY: In accordance with the procedures governing the application for, and the processing of, exemptions from the Department of Transportation's Hazardous Materials Regulations (49 CFR part 107, subpart B), notice is hereby given that the Office of Hazardous Materials Safety has received the applications described herein. Each mode of transportation for which a particular exemption is requested is indicated by a number in the “Nature of Application” portion of the table below as follows: 1—Motor Vehicle, 2—Rail freight, 3—Cargo vessel, 4—Cargo aircraft only, 5—Passenger-carrying aircraft.

DATES: Comments must be received on or before July 25, 2002.

ADDRESS COMMENTS TO: Records Center, Research, and Special Programs, Administration, U.S. Department of Transportation, Washington, DC 20590.

Comments should refer to the application number and be submitted in triplicate. If confirmation of receipt of comments is desired, include a self-addressed stamped postcard showing the exemption application number.

FOR FURTHER INFORMATION: Copies of the applications (See Docket Number) are available for inspection at the New Docket Management Facility, PL-401, at the U.S. Department of Transportation, Nassif Building, 400 7th Street, SW., Washington, DC 20590 or at http://dms.dot.gov.

This notice of receipt of applications for new exemptions is published in accordance with Part 107 of the Federal hazardous materials transportation law (49 U.S.C. 5117(b); 49 CFR 1.53(b)).

Dated: Issued in Washington, DC, on June 18, 2002.
R. Ryan Posten,
Exemptions Program Officer, Office of Hazardous Materials, Exemptions and Approvals.

New Exemptions
Application No. | Docket No. | Applicant | Regulation(s) affected | Nature of exemption thereof
13021-N | RSPA-02-12446 | Eastman Kodak Company, Rochester, NY | 49 CFR 171.11, 171.12, Part 172, Part 173 subpart B&E | To authorize the transportation in commerce of machinery containing small quantities of Class 3 hazardous materials without hazard communication or required packaging. (modes 1, 2, 3, 4)
13023-N | RSPA-02-12448 | Energy Conversion Devices, Inc., Troy, MI | 49 CFR 173.187 | To authorize the one-time transportation in commerce of one overpack containing a specially designed device containing a Division 4.2 material that exceeds the maximum quantity limitations. (mode 1)
13024-N | RSPA-02-12449 | Sybron Dental Specialties Inc., Orange, CA | 49 CFR 171.8, 172.101—App. A | To authorize the transportation in commerce of specially designed packagings containing metallic mercury, Class 8 in package quantities exceeding one pound with the prescribed marking and labelling. (modes 1, 2, 3, 4)
13026-N | RSPA-02-12444 | Sun Nuclear Corp, Melbourne, FL | 49 CFR 173.302 (a)(1), 173.34(d) | To authorize the transportation in commerce of Division 2.2 material in a non-DOT specification container. (modes 1, 2, 3, 4)
13027-N | RSPA-02-12451 | Hernco Fabrication & Services, Midland, TX | 49 CFR 173.241, 173.242 | To authorize the manufacture, mark, sale and use of a packaging consisting of manifolded non-DOT specification tanks for use in transporting certain Class 3 and Class 8 hazardous materials. (mode 1)
13028-N | RSPA-02-12452 | Matheson Tri-Gas, East Rutherford, NJ | 49 CFR 173.301(j), 173.34(d) | To authorize the transportation in commerce of non-DOT specification cylinders for export containing various compressed gases without pressure relief devices. (modes 1, 3)
13029-N | RSPA-02-12445 | Chromatography Research Supplies, Inc., Louisville, KY | 49 CFR 173.4 | To authorize the transportation of a non-DOT specification inner receptable containing up to 2000 grams of a Division 2.2 material as a small quantity under Section 173.4. (modes 1, 4, 5)
13034-N |  | ATK-Ammunition Accessories, Inc., Lewiston, ID | 49 CFR 173.24(c), 173.54(a), 173.62 | To authorize the transportation in commerce of explosive components, Division 1.4S in specially designed packaging. (mode 1)

[FR Doc. 02-15908 Filed 6-24-02; 8:45 am]

BILLING CODE 4910-60-M